SMALL BUSINESS ADMINISTRATION

[Disaster Declaration #20303 and #20304; OKLAHOMA Disaster Number OK-20001]

Presidential Declaration Amendment of a Major Disaster for the State of Oklahoma

AGENCY: U.S. Small Business Administration.

ACTION: Amendment 8.

SUMMARY: This is an amendment of the Presidential declaration of a major disaster for the State of Oklahoma (FEMA-4776-DR), dated 04/30/2024.

Incident: Severe Storms, Straight-line Winds, Tornadoes, and Flooding.

Incident Period: 04/25/2024 through 05/09/2024.

DATES: Issued on 06/25/2024.

Physical Loan Application Deadline Date: 07/31/2024.

Economic Injury (EIDL) Loan Application Deadline Date: 01/30/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Oklahoma, dated 04/30/2024, is hereby amended to extend the deadline for filing applications for physical damages as a result of this disaster to 07/31/2024.

All other information in the original declaration remains unchanged.

(Catalog of Federal Domestic Assistance Number 59008)

Rafaela Monchek,
Deputy Associate Administrator, Office of Disaster Recovery & Resilience.

[FR Doc. 2024-14751 Filed 7-3-24; 8:45 am]

BILLING CODE 8026-09-P